DEPARTMENT OF HEALTH AND HUMAN SERVICES

Administration for Children and Families

Agency Recordkeeping/Reporting Requirements Under Emergency

Review by the Office of Management and Budget (OMB)

Title: Request to use emergency procedures for an emergency revision to the Temporary Assistance for Needy Families (TANF) Annual Report on TANF Programs and State Maintenance-of-Effort Programs.

OMB No.: 0970-0248.

Description: We wish to amend the annual report to include the state report on the TANF EBT requirements. The final rule that will govern the TANF EBT state reports (Temporary Assistance for Needy Families (TANF) Program, State Reporting On Policies and Practices to Prevent Use of TANF Funds in Electronic Benefit Transfer Transactions in Specified Locations) has not yet been published, so ACF is unable to have a stand-alone EBT state report form cleared by PRA in time for states to report on fiscal year 2015. Amending the annual report to include the EBT reporting section would enable states to report on this fiscal year and avoid possible penalty. Section 4004 of the Middle Class Tax Relief and Job Creation Act of 2012 specifies that the Secretary shall reduce the state's annual TANF grant by 5 percent if the state does not report on its policies and practices each fiscal year. The states have not submitted EBT reports since fiscal year 2014.

Respondents: The TANF programs of the states, DC, Guam, the Commonwealth of Puerto Rico, and the U.S. Virgin Islands.

Annual Burden Estimates
Instrument | Number of respondents | Number of responses per respondent | Average burden hours per response | Total burden hours
ACF-204 | 54 | 1 | 138 | 7,452

Estimated Total Annual Burden Hours: 7,452.

Additional Information: ACF is requesting that OMB grant a 180 day approval for this information collection under procedures for emergency processing by October 1, 2015. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street NW., Washington, DC 20503; FAX: (202) 395-7285; email: oira_submission@omb.eop.gov.

Robert Sargis,
Reports Clearance Officer.

[FR Doc. 2015-24746 Filed 9-29-15; 8:45 am]

BILLING CODE 4184-01-P